DEPARTMENT OF STATE

[Public Notice No. 3498]

Shipping Coordinating Committee; Notice of Meeting

The Shipping Coordinating Committee will conduct an open meeting at 9:30 AM on Tuesday, January 23, 2001 in Room 6103, U.S. Coast Guard Headquarters, 2100 Second Street, SW., Washington, DC 20593-0001. The purpose of the meeting is to finalize preparations for the Sixth Session of the Subcommittee on Bulk Liquids and Gases of the International Maritime Organization (IMO) which will be held on February 5-9, 2001, at the IMO Headquarters in London.

The agenda items of particular interest are:

—Revision of Maritime Safety Committee (MSC) Circular 677.

—Matters related to the probabilistic methodology for oil outflow analysis.

—Review of Annexes I and II of the International Convention for the Prevention of Pollution from Ships, 1973 as modified by the Protocol of 1978 (MARPOL 73/78).

—Evaluation of safety and pollution hazards of chemicals and preparation of consequential amendments.

—Amendments to requirements on electrical installations in the IMO Chemical Codes.

—Application of MARPOL requirements to floating production, storage and offloading units and floating storage units.

—Requirements for the protection of personnel involved in the transportation of cargoes containing toxic substances in all types of tankers.

—Oil tagging systems.

—Evaluation of IMO Greenhouse gas emissions study.

Members of the public may attend this meeting up to the seating capacity of the room. Interested persons may seek information by writing: Commander R.F. Corbin, U.S. Coast Guard (G-MSO-3), 2100 Second Street, S.W., Washington, DC 20593-0001 or by calling (202) 267-1577.

Dated: December 19, 2000.
Stephen Miller,
Executive Secretary, Shipping Coordinating Committee.

[FR Doc. 00-32867 Filed 12-22-00; 8:45 am]

BILLING CODE 4710-07-P